DEPARTMENT OF HOMELAND SECURITY

Federal Emergency Management Agency

[Docket ID: FEMA-2007-0008]

National Advisory Council

AGENCY: Federal Emergency Management Agency, DHS.

ACTION: Committee Management; Request for applicants for appointment to the National Advisory Council.

SUMMARY: The Federal Emergency Management Agency (FEMA) is requesting individuals who are interested in serving on the National Advisory Council (NAC) to apply for appointment. As provided for in the Department of Homeland Security Appropriations Act of 2007, the Secretary of Homeland Security established the NAC to ensure effective and ongoing coordination of Federal preparedness, protection, response, recovery, and mitigation for natural disasters, acts of terrorism, and other man-made disasters.

DATES: Applications for membership should reach FEMA at the address below beginning February 5, 2010 and before 5 p.m. EST, on Friday, March 5, 2010.

ADDRESSES: If you wish to apply for membership, your application should be submitted by:

• E-mail: FEMA-NAC@dhs.gov.

• Fax: (202) 646-3930.

• Mail: Federal Emergency Management Agency, Office of the National Advisory Council, 500 C Street, SW., Room 832, Washington, DC 20472-3100.

FOR FURTHER INFORMATION CONTACT: The Alternate Designated Federal Officer, Breese Eddy, Office of the National Advisory Council, telephone 202-646-3746; e-mail FEMA-NAC@dhs.gov. FEMA Ethics Office, Ebbonie Taylor, telephone 202-646-3664; e-mail ebbonie.taylor@dhs.gov and Paul Conrad, telephone 202-646-4025; e-mail paul.conrad1@dhs.gov.

SUPPLEMENTARY INFORMATION: The National Advisory Council (NAC) is an advisory committee established in accordance with the provisions of the Federal Advisory Committee Act (FACA), 5 U.S.C. App. (Pub. L. 92-463). Section 508 of the Homeland Security Act of 2002 (Pub. L. 107-296), as amended by section 611 of the Post-Katrina Emergency Management Reform Act of 2006, as set forth in the Department of Homeland Security Appropriations Act of 2007 (Pub. L. 109-295), directed the Secretary of Homeland Security to establish the NAC to ensure effective and ongoing coordination of Federal preparedness, protection, response, recovery, and mitigation for natural disasters, acts of terrorism, and other man-made disasters.

The NAC consists of 35 members, all of whom are experts and leaders in their respective fields. Approximately one-third of the membership was appointed for a 3-year term expiring on June 15, 2010. Accordingly, the following discipline areas will be open for applications and nominations: Emergency Management (one representative appointment), Public Health (one Special Government Employee (SGE) appointment), Emergency Medical Provider (one SGE appointment), Standard Settings (one representative appointment), Special Needs (one representative appointment), State Non-Elected Official (one representative appointment), Tribal Non-Elected Official (one representative appointment), Officer of the Federal Government—U.S. Department of Health and Human Services (one Ex Officio appointment), Officer of the Federal Government—U.S. Department of Defense (one Ex Officio appointment), and three appointments (either representative or SGE appointments), which will be selected at the discretion of the FEMA Administrator.

There are specific membership types associated with the indicated disciplines open for new appointments. Some members are appointed as Special Government Employees (SGE) as defined in section 202(a) of title 18, United States Code. Specifically, the following two discipline areas will be filled by SGE appointments: Public Health and Emergency Medical Provider. If a candidate is selected for appointment as a SGE, the appointee is required to complete a Confidential Financial Disclosure Report (Office of Government Ethics (OGE) Form 450). OGE Form 450 or the information contained therein may not be released to the public except under an order issued by a Federal court or as otherwise provided under the Privacy Act (5 U.S.C. 552a). Applicants can obtain this form by going to the Web site of the Office of Government Ethics (http://www.oge.gov), or by contacting the National Advisory Council Program Office, or by contacting the FEMA Ethics Office. This information is provided in the FOR FURTHER INFORMATION CONTACT section of this notice. Additionally, the U.S. Department of Health and Human Services and U.S. Department of Defense Officers of the Federal Government positions will be filled by a current employee of those respective Departments. All other discipline areas including: Emergency Management, Public Health, Emergency Medical Provider, Standard Settings, Special Needs, State Non-Elected Official, Tribal Non-Elected Official, and the three positions selected by the FEMA Administrator will be filled by representatives of their respective fields.

Qualified individuals interested in serving on the NAC are invited to apply for appointment. Current FEMA employees, Disaster Assistance Employees, FEMA Contractors, and potential FEMA Contractors will not be considered for NAC Membership.

The NAC assists FEMA in carrying out its missions by providing advice and recommendations in the development and revision of the national preparedness goal, the national preparedness guidelines, the National Incident Management System, the National Response Framework, and other related plans and strategies. The members of the NAC are appointed by the Administrator of FEMA and are composed of Federal, State, local, Tribal, and private-sector leaders and subject matter experts in law enforcement, fire, emergency medical services, hospital, public works, emergency management, State and local governments, public health, emergency response, standard setting and accrediting organizations, representatives of individuals with disabilities and other special needs, infrastructure protection, cyber security, communications, and homeland security communities.

Qualified individuals interested in serving on the NAC are invited to apply for appointment by submitting a resume or Curriculum Vitae (CV) to the NAC's alternate Designated Federal Officer. Letters of recommendation may also be provided, but are not required. Please ensure the submission includes the following information: The applicant's name, phone number, e-mail address, home and business mailing addresses, current position title and organization, and the discipline area of interest (i.e., Emergency Management). Current NAC members whose terms are ending should notify the Alternate Designated Federal Officer of their interest in reappointment in lieu of submitting a new application, and should provide an updated resume and/or CV and letters of recommendation for consideration. The NAC meets in a plenary session approximately once per quarter. The NAC also holds at least one teleconference meeting with public call-in lines. Members serve without compensation from the Federal Government; however, consistent with the charter, they do receive travel reimbursement and per diem under applicable Federal travel regulations. In support of the policy of the Department of Homeland Security on gender and ethnic diversity, qualified women and minorities are encouraged to apply for membership.

Dated: January 14, 2010.
W. Craig Fugate,
Administrator, Federal Emergency Management Agency.

[FR Doc. 2010-1800 Filed 1-28-10; 8:45 am]

BILLING CODE 9111-48-P